ENVIRONMENTAL PROTECTION AGENCY

[FRL-7049-8]

Agency Information Collection Activities: Submission for OMB Review; Comment Request; Standards of Performance for New Stationary Sources; Rubber Tire Manufacturing

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Standards of Performance for New Stationary Sources; Rubber Tire Manufacturing, Subpart BBB, OMB Control Number 2060-0156, expiration date September 30, 2001. The ICR describes the nature of the information collection and its expected burden and cost; where appropriate, it includes the actual data collection instrument.

DATES: Comments must be submitted on or before October 9, 2001.

ADDRESSES: Send comments, referencing EPA ICR No. 1158.07 and OMB Control No. 2060-0156, to the following addresses: Susan Auby, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Susan Auby at EPA by phone at (202) 260-4901, by E-mail at Auby.Susan@epamail.epa.gov, or download off the Internet at http://www.epa.gov/icr and refer to EPA ICR No. 1158.07. For technical questions about the ICR contact Maria Malavé at (202) 564-7027 or via E-mail to Malave.Maria@EPAMAIL.EPA.Gov.

SUPPLEMENTARY INFORMATION: Title: Standards of Performance for New Stationary Sources; Rubber Tire Manufacturing, EPA ICR No. 1158.07; OMB Control No. 2060-0156, expiring September 30, 2001. This is a request for extension of a currently approved collection..

Abstract: NSPS Subpart BBB applies to affected facilities in rubber tire manufacturing plants that commence construction, modification or reconstruction after January 20, 1983. The affected facilities include: Each underthread cementing operation, each sidewall cementing operation, each tread end cementing operation, each bead cementing operation, each green tire spraying operation, each Michelin-A operation, each Michelin-B operation, each Michelin-C automatic operation. The rule establishes standards for volatile organic compounds (VOCs) use and emission limits.

Monitoring, recordkeeping and reporting requirements allow the regulatory agencies to determine compliance with the standard. One time only reports are required to identify the affected facilities and the compliance method used. Notification of Method 25 performance is also required. Annual reports of Method 24 results to verify VOC content of water-based sprays would be required.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published in the Federal Register on February 1, 2001, (66 FR 8588). No comments were received.

Burden Statement: The annual public reporting and record keeping burden for this collection of information is estimated to average about 167 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners/operators of rubber tire manufacturing plants.

Estimated Number of Respondents: 43.

Frequency of Response: Annual and semiannual when a source has excess emissions.

Estimated Total Annual Hour Burden: 13,151 hours.

Estimated Total Annualized Capital, O&M Cost Burden: $17,200.

Send comments on the Agency's need for this information, the accuracy of the provided burden estimates, and any suggested methods for minimizing respondent burden, including through the use of automated collection techniques to the addresses listed above. Please refer to EPA ICR No. 1158.07 and OMB Control No. 2060-0156 in any correspondence. .

Dated: August 27, 2001.
Oscar Morales,
Director, Collection Strategies Division.

[FR Doc. 01-22376 Filed 9-5-01; 8:45 am]

BILLING CODE 6560-50-P